DEPARTMENT OF TRANSPORTATION

Federal Aviation Administration

Public Notice for waiver of Aeronautical Land-Use Assurance; Evansville Regional Airport, Evansville, IN

AGENCY: Federal Aviation Administration, DOT.

ACTION: Notice of intent of waiver with respect to land.

SUMMARY: The Federal Aviation Administration (FAA) is considering a proposal to change a portion of the airport from aeronautical use to non-aeronautical use and to authorize the lease of the airport property. The 97.10-acre parcel is located in the northeast quadrant of the airport. Currently, the land is not being used for aeronautical purposes. The land was acquired under FAA FAAP Project Nos. 9-12-023-C309 and FAAP 9-12-023-C510. There are no adverse impacts to the airport by allowing the airport to lease the property; and the associated fair market rental income will significantly increase the airport's available operational budget. Approval does not constitute a commitment by the FAA to financially assist in the lease of the subject airport property nor a determination of eligibility for grant-in-aid funding from the FAA. The disposition of proceeds from the lease of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before August 13, 2007.

ADDRESSES: Written comments on the Sponsor's request must be delivered or mailed to: Sandra A. Lyman, Airports Engineer, 2300 East Devon, Des Plaines, Illinois 60018.

FOR FURTHER INFORMATION CONTACT: Sandra A. Lyman, Airports Engineer, 2300 East Devon, Des Plaines, Illinois 60018. Telephone Number (847) 294-7525, FAX Number (847) 294-7046. Documents reflecting this FAA action may be reviewed at this same location or at Evansville Regional Airport, Evansville, Indiana.

SUPPLEMENTARY INFORMATION: Following is a legal description of the property located in Evansville, Vanderburgh County, Indiana, and described as follows:

Part of Section 34, Township 6 South, Range 10 West, Vanderburgh County, Indiana, described as follows:

Commencing at the southeast corner of said Section 34; thence North 01 degree 11 minutes 26 seconds East 2139.92 feet along the East line of said Section; thence parallel with the South line of the Southeast Quarter of said Section, North 88 degrees 39 minutes 44 seconds West 1548.55 feet to the Point of Beginning; thence South 05 degrees 08 minutes 47 seconds West 373.72 feet; thence southerly 363.64 feet along an arc to the right and having a radius of 1415.11 feet and subtended by a long chord having a bearing of South 12 degrees 43 minutes 01 seconds West and a length of 362.64 feet; thence southwesterly 1209.36 feet along an arc to the right having a radius of 1258.00 feet and subtended by a long chord having a bearing of South 44 degrees 20 minutes 55 seconds West and a length of 1163.32 feet; thence South 83 degrees 59 minutes 51 seconds West 164.75 feet; thence westerly 195.17 feet along an arc to the right having a radius of 735.92 feet and subtended by a long chord having a bearing of South 85 degrees 34 minutes 56 seconds West and a length of 194.60 feet; thence North 89 degrees 35 minutes 37 seconds West 26.71 feet; thence South 89 degrees 37 minutes 03 seconds West 331.65 feet; thence South 86 degrees 11 minutes 09 seconds West 61.41 feet; thence South 90 degrees 00 minutes 00 seconds West 263.76 feet; thence South 88 degrees 21 minutes 05 seconds West 226.14 feet; thence easterly and northeasterly 39.71 feet along a non-tangent arc to the left having a radius of 32.00 feet and subtended by a long chord having a bearing of North 49 degrees 46 minutes 49 seconds East and a length of 37.21 feet; thence North 11 degrees 33 minutes 06 seconds East 228.77 feet; thence North 17 degrees 22 minutes 34 seconds East 100.72 feet; thence North 10 degrees 32 minutes 00 seconds East 108.51 feet; thence northerly and northeasterly 285.63 feet along an arc to the right having a radius of 524.54 feet and subtended by a long chord having a bearing of North 26 degrees 29 minutes 04 seconds East and a length of 282.11 feet; thence North 38 degrees 21 minutes 06 seconds East 9.70 feet; thence South 85 degrees 44 minutes 50 seconds West 695.25 feet; thence North 01 degrees 30 minutes 26 seconds East 103.96 feet; thence North 38 degrees 21 minutes 19 seconds East 1741.56 feet; thence South 51 degrees 38 minutes 54 seconds East 357.14 feet; thence North 38 degrees 21 minutes 06 seconds East 1064.81 feet; thence South 51 degrees 38 minutes 54 seconds East 154.09 feet; thence South 04 degrees 13 minutes 04 seconds East 388.74 feet; thence North 86 degrees 33 minutes 33 seconds East 173.86 feet; thence South 04 degrees 19 minutes 52 seconds East 16.94 feet; thence southerly 174.71 feet along an arc to the left having a radius of 349.60 feet and subtended by a long chord having a bearing of South 18 degrees 38 minutes 53 seconds East and a length of 172.90 feet; thence South 31 degrees 27 minutes 19 seconds East 344.16 feet; thence southeasterly and southerly 201.70 feet along an arc to the right having a radius of 330.00 feet and subtended by a long chord having a bearing of South 13 degrees 56 minutes 42 seconds East and a length of 198.58 feet to the point of beginning, and containing 97.10 acres, more or less.

Issued in Des Plaines, Illinois on June 29, 2007.
Jack Delaney,
Acting Manager, Chicago Airports District Office, FAA, Great Lakes Region.

[FR Doc. 07-3405 Filed 7-12-07; 8:45 am]

BILLING CODE 4910-13-M